DEPARTMENT OF HEALTH AND HUMAN SERVICES

Meeting of the Chronic Fatigue Syndrome Advisory Committee

AGENCY: Office of the Assistant Secretary for Health, Office of the Secretary, Department of Health and Human Services.

ACTION: Notice.

SUMMARY: As stipulated by the Federal Advisory Committee Act, the U.S. Department of Health and Human Services (DHHS) is hereby giving notice that a webinar meeting of the Chronic Fatigue Syndrome Advisory Committee (CFSAC) will take place and will be open to the general public to listen in via a toll free number.

DATES: The CFSAC webinar will be held on Thursday, June 29, 2017, from 12 p.m. until 5 p.m. (EST) and on Friday, June 30, 2017 from 9 a.m. to 5 p.m.

ADDRESSES: This meeting will be broadcasted to the public as a webinar. A webinar is a virtual meeting. Registration is not required for the webinar.

FOR FURTHER INFORMATION CONTACT: Gustavo Seinos, MPH, Designated Federal Officer, Chronic Fatigue Syndrome Advisory Committee, Department of Health and Human Services, 200 Independence Avenue SW., Room 728F.6, Washington, DC 20201. Please direct all inquiries to cfsac@hhs.gov.

SUPPLEMENTARY INFORMATION: The CFSAC is authorized under 42 U.S.C.217a, Section 222 of the Public Health Service Act, as amended. The purpose of the CFSAC is to provide advice and recommendations to the Secretary of Health and Human Services (HHS), through the Assistant Secretary for Health (ASH), on issues related to myalgic encephalomyelitis/chronic fatigue syndrome (ME/CFS). The issues can include factors affecting access and care for persons with ME/CFS; the science and definition of ME/CFS; and broader public health, clinical, research, and educational issues related to ME/CFS.

The agenda for this meeting, call-in information and location will be posted on the CFSAC Web site http://www.hhs.gov/ash/advisory-committees/cfsac/meetings/index.html.

A half hour of public comment via telephone will be scheduled for the first half day of the webinar and an entire hour for the second day of the webinar. Individuals will have five minutes to present their comments. Priority will be given to individuals who have not provided public comment within the previous year. We are unable to place international calls for public comments. To request a time slot for public comment, please send an email to cfsac@hhs.gov by June 1, 2017. The email should contain the speaker's name and the phone number that will be used for public comment.

Individuals who would like for their testimony to be provided to the Committee members should submit a copy of the testimony prior to the meeting. It is preferred, but not required, that the submitted testimony be prepared in digital format and typed using a 12-pitch font. Copies of the written comment must not exceed 5 single-space pages, and it is preferred, but not required that the document be prepared in the MS Word format. Please note that PDF files, handwritten notes, charts, and photographs cannot be accepted. Materials submitted should not include sensitive personal information, such as social security number, birthdates, driver's license number, passport number, financial account number, or credit or debit card number. If you wish to remain anonymous the document must specify this.

The Committee welcomes input on any topic related to ME/CFS.

Dated: March 2, 2017.
Gustavo Seinos,
Commander, USPHS, Designated Federal Officer.

[FR Doc. 2017-05641 Filed 3-21-17; 8:45 am]

BILLING CODE 4150-42-P